DEPARTMENT OF LABOR

Employment and Training Administration

[TA-W-73,666]

Badger Meter, Inc., Including On-Site Leased Workers From Sourcepoint Staffing, Seek, and Manpower; Milwaukee, WI; Amended Certification Regarding Eligibility To Apply for Worker Adjustment Assistance

In accordance with Section 223 of the Trade Act of 1974, as amended (“Act”), 19 U.S.C. 2273, the Department of Labor issued a Certification of Eligibility to Apply for Worker Adjustment Assistance on April 28, 2010, applicable to workers of Badger Meter, Inc., including on-site leased workers from Sourcepoint Staffing, Milwaukee, Wisconsin. The notice was published in the Federal Register on May 28, 2010 (75 FR 30070).

At the request of a company official, the Department reviewed the certification for workers of the subject firm. The workers are engaged in the production of flow measurement devices and automatic meter reading equipment.

The company reports that workers leased from Seek and Manpower were employed on-site at the Milwaukee, Wisconsin location of Badger Meter, Inc. The Department has determined that these workers were sufficiently under the control of the subject firm to be considered leased workers.

Based on these findings, the Department is amending this certification to include workers leased from Seek and Manpower working on-site at the Milwaukee, Wisconsin location of Badger Meter, Inc.

The amended notice applicable to TA-W-73,666 is hereby issued as follows:

All workers of Badger Meter, Inc., including on-site leased workers from Sourcepoint Staffing, Seek and Manpower, Milwaukee, Wisconsin, who became totally or partially separated from employment on or after February 22, 2009, through April 28, 2012, and all workers in the group threatened with total or partial separation from employment on the date of certification through two years from the date of certification, are eligible to apply for adjustment assistance under Chapter 2 of Title II of the Trade Act of 1974, as amended.

Signed at Washington, DC, this 14th day of July 2010.
Elliott S. Kushner,
Certifying Officer, Division of Trade Adjustment Assistance.

[FR Doc. 2010-18193 Filed 7-23-10; 8:45 am]

BILLING CODE 4510-FN-P